DEPARTMENT OF HOMELAND SECURITY

Coast Guard

33 CFR Part 165

[CGD09-03-501]

Safety Zone; Captain of the Port Milwaukee Zone

AGENCY: Coast Guard, DHS.

ACTION: Notice of implementation.

SUMMARY: The Coast Guard is implementing safety zones for annual fireworks displays in the Captain of the Port Milwaukee Zone during August 2003. This action is necessary to provide for the safety of life and property on navigable waters during these events. These zones will restrict vessel traffic from a portion of the Captain of the Port Milwaukee Zone.

DATES: Effective from 12:01 a.m. (CST) on August 1, 2003 to 11:59 p.m. (CST) on August 31, 2003.

FOR FURTHER INFORMATION CONTACT: Marine Science Technician Michael Schmiktke, U.S. Coast Guard Marine Safety Office Milwaukee, (414) 747-7155.

SUPPLEMENTARY INFORMATION: The Coast Guard is implementing the permanent safety zones in 33 CFR 165.909 (24) and (25) (67 FR 44560, July 3, 2002), for fireworks displays in the Captain of the Port Milwaukee Zone during August 2003. The following safety zones are in effect for fireworks displays occurring in the month of August 2003:

(1) Sturgeon Bay Venetian Night Fireworks.

Location: All waters and adjacent shoreline off the Sturgeon Bay Yacht Club, Sturgeon Bay Canal encompassed by the arc of a circle with a 350-foot radius of the fireworks launch platform with its center in approximate position 44° 49.33′ N, 087° 23.27′ W (NAD 1983), on August 2, 2003, from 8:45 p.m. until 9:30 p.m. This safety zone will temporarily close down the Sturgeon Bay Canal.

(2) Menominee Waterfront Festival Fireworks.

Location: All waters and adjacent shoreline off the southeast side of the Menominee Municipal Marina, Lake Michigan, encompassed by the arc of a circle with an 840-foot radius of the fireworks barge with its center in approximate position 45°20.05′ N, 087°36.49′ W (NAD 1983), on August 9, 2003, from 9:30 p.m. until 10 p.m.

Dated: July 29, 2003.
H.M. Hamilton,
Commander, Coast Guard, Captain of the Port Milwaukee.

[FR Doc. 03-20197 Filed 8-7-03; 8:45 am]

BILLING CODE 4910-15-U